DEPARTMENT OF TRANSPORTATION

National Highway Traffic Safety Administration

Reports, Forms, and Recordkeeping Requirements; Agency Information Collection Activity Under OMB Review

AGENCY: National Highway Traffic Safety Administration (NHTSA), U.S. Department of Transportation (DOT).

ACTION: Notice.

SUMMARY: In compliance with the Paperwork Reduction Act of 1995, this notice announces that the Information Collection Request (ICR) abstracted below has been forwarded to the Office of Management and Budget (OMB) for review and comment. The ICR describes the nature of the information collection and its expected burden. The agency did not receive comments on the Federal Register Notice with a 60-day comment period published on July 20, 2017.

DATES: Comments must be submitted on or before December 4, 2017.

ADDRESSES: You may submit comments, within 30 days, to the Office of Information and Regulatory Affairs, Office of Management and Budget, 725 17th Street NW., Washington, DC 20503, Attention NHTSA Desk Officer.

FOR FURTHER INFORMATION CONTACT: Dr. Kathy J. Sifrit, Office of Behavioral Safety Research (NPD-320), National Highway Traffic Safety Administration, 1200 New Jersey Avenue SE., W46-472, Washington, DC 20590. Dr. Sifrit's phone number is 202-366-0868, and her email address is kathy.sifrit@dot.gov.

SUPPLEMENTARY INFORMATION: Title: Older Driver Rearview Video Systems.

Type of Request: New information collection requirement.

Abstract: A 2014 final rule by NHTSA requires rear visibility technology in all new vehicles under 10,000 pounds by May 2018, but the anticipated safety gains strongly depend on the extent to which drivers understand and use the technology as intended. The purpose of this study is to assess the driving performance of adults 60 and older using traditional mirrors as compared to using a rearview video system (RVS) during backing tasks; and to develop, implement, and assess the effectiveness of an RVS training protocol.

Study staff will invite drivers 60 and older from residential communities, senior centers, and/or service or faith-based organizations in southeast Pennsylvania to a public meeting to describe the opportunity including inclusion and exclusion criteria. The project plans to recruit a total of 200 participants for the study: 80 for Segment 1 and 120 for Segment 2. Segment 1 participants will complete a series of backing tasks in an instrumented vehicle as directed by a driving evaluator. The 120 participants assigned to Segment 2 will complete a 30-minute training session, which will be based on participant errors and comments during Segment 1, before completing the backing tasks in the same manner as the Segment 1 participants. Participants will receive compensation for study participation at the completion of the backing tasks.

Findings will provide information about whether people ages 60 and older differ in backing performance when using RVS versus traditional inside traditional mirrors, which elements of RVS use are particularly difficult for this cohort, and whether RVS training improves older drivers' ability to use RVS to avoid obstacles while backing. NHTSA will use the information to inform recommendations to the public regarding backing practices for the purpose of reducing crashes.

Affected Public: Participants will include 200 licensed drivers 60 and older.

Estimated Total Annual Burden: The total burden for data collection would be 360 hours.

Comments are invited on the following:

(i) Whether the proposed collection of information is necessary for the proper performance of the functions of the agency, including whether the information will have practical utility;

(ii) the accuracy of the Department's estimate of the burden of the proposed information collection;

(iii) ways to enhance the quality, utility and clarity of the information to be collected; and

(iv) ways to minimize the burden of the collection of information on respondents, including the use of automated collection techniques or other forms of information technology. A comment to OMB is most effective if OMB receives it within 30 days of publication of this notice.

Authority: 44 U.S.C. Section 3506(c)(2)(A).

Issued in Washington, DC, on October 30, 2017.
Jeff Michael,
Associate Administrator, Research and Program Development.

[FR Doc. 2017-23871 Filed 11-1-17; 8:45 am]

BILLING CODE 4910-59-P